DEPARTMENT OF LABOR

Employment and Training Administration

Notice of an Open Meeting of the Advisory Committee on Apprenticeship (ACA)

AGENCY: Employment and Training Administration (ETA), Labor.

ACTION: Announcement of Meeting.

SUMMARY: Pursuant to section 10 of the Federal Advisory Committee Act (Pub. L. 92-463; as amended 5 U.S.C., App. 2), notice is hereby given to announce an open meeting of the Advisory Committee on Apprenticeship (ACA) being held on February 2-3, 2012, in Washington, DC.

The ACA, an advisory board to the Secretary of Labor, is a discretionary Committee established by the Secretary of Labor, in accordance with the provisions of the Federal Advisory Committee Act, as amended 5 U.S.C., App. 2, and its implementing regulations (41 CFR parts 101-6 and 102-3). All meetings of the ACA are open to the public.

Time and Date: The meeting will begin at approximately 8:30 a.m. Eastern Time on Thursday, February 2, 2012, and continue until approximately 5 p.m. The meeting will reconvene on Friday, February 3, 2012, at approximately 8:30 a.m. Eastern Time and adjourn at approximately 12 noon.

Address: The meeting location is the U.S. Department of Labor, Frances Perkins Building, 200 Constitution Avenue NW., Washington, DC 20210.

FOR FURTHER INFORMATION CONTACT: The Designated Federal Official, Mr. John V. Ladd, Administrator, Office of Apprenticeship, ETA, U.S. Department of Labor, 200 Constitution Avenue NW., Room N-5311, Washington, DC 20210. Telephone: (202) 693-2796, (this is not a toll-free number).

SUPPLEMENTARY INFORMATION: This meeting is open to the public and members of the public are invited to attend the proceedings. If individuals have special needs and/or disabilities that will require special accommodations, please contact Ms. Marisa Nixon on (202) 693-3616 no later than Thursday, January 26, 2012, to request for arrangements to be made. Any member of the public who wishes to file written data or comments pertaining to the agenda may do so by sending the data or comments to Mr. John V. Ladd, Administrator, Office of Apprenticeship, ETA, U.S. Department of Labor, Room N-5311, 200 Constitution Avenue NW., Washington, DC 20210. Such submissions must be received by Thursday, January 26, 2012, to be included in the record for the meeting.

Purpose of the Meeting and Topics To Be Discussed

The purpose of the meeting is to consider several policy matters affecting Registered Apprenticeship programs. The meeting will focus on the following topics:

• Workgroup Report-outs and Open Committee Discussion.

• Equal Employment Opportunity (EEO) in Registered Apprenticeship.

• Veterans Opportunity to Work to Hire Heroes Act of 2011.

• Presentation by the Employment Benefits Security Administration (EBSA) on current monitoring and oversight activities for Apprenticeship Training Trust funds.

• YouthBuild and Registered Apprenticeship Partnerships.

• Overview of Preliminary Findings on the Net Social Benefits of Registered Apprenticeship.

• Planning for 75th Anniversary of the National Apprenticeship Act of 1937.

• Other Matters of Interest to the Apprenticeship Community.

• Public Comment.

Any member of the public who wishes to speak at the meeting must indicate the nature of the intended presentation and the amount of time needed by furnishing a written statement to the Designated Federal Official, Mr. John V. Ladd, which must be received by Thursday, January 26, 2012. The Chairperson will announce at the beginning of the meeting the extent to which time will permit the granting of such requests.

Signed at Washington, DC, this 10th day of January 2012.
Jane Oates,
Assistant Secretary for the Employment and Training Administration.

[FR Doc. 2012-927 Filed 1-18-12; 8:45 am]

BILLING CODE 4510-FR-P